DEPARTMENT OF TRANSPORTATION

Federal Aviation Administration

[Docket No. FAA-2023-1263]

Agency Information Collection Activities: Requests for Comments; Clearance of Renewed Approval of Information Collection: Certification and Operations: Airplanes With Seating Capacity of 20 or More Passenger Seats or Maximum Payload of 6,000 Pounds or More

AGENCY: Federal Aviation Administration (FAA), DOT.

ACTION: Notice and request for comments.

SUMMARY: In accordance with the Paperwork Reduction Act of 1995, FAA invites public comments about our intention to request the Office of Management and Budget (OMB) approval to renew an information collection. This collection involves the certification and operation of aircraft with seating capacity of 20 or more passengers, or maximum payload of 6,000 pounds or more, and includes the operator application requirements, maintenance requirements, and various operational requirements.

DATES: Written comments should be submitted by August 15, 2023.

ADDRESSES: Please send written comments:

By Electronic Docket: www.regulations.gov (Enter docket number into search field).

By mail: John Attebury, 800 Independence Ave. SW, Washington, DC 20591].

FOR FURTHER INFORMATION CONTACT: John H. Attebury by email at: John.H.Attebury@faa.gov; phone: 281-929-7078.

SUPPLEMENTARY INFORMATION: Public Comments Invited: You are asked to comment on any aspect of this information collection, including (a) Whether the proposed collection of information is necessary for FAA's performance; (b) the accuracy of the estimated burden; (c) ways for FAA to enhance the quality, utility, and clarity of the information collection; and (d) ways that the burden could be minimized without reducing the quality of the collected information. The agency will summarize and/or include your comments in the request for OMB's clearance of this information collection.

OMB Control Number: 2120-0085.

Title: Certification and Operations: Airplanes With Seating Capacity of 20 or More Passenger Seats or Maximum Payload of 6,000 Pounds or More-14 CFR 125.

Form Numbers: None.

Type of Review: Renewal.

Background: The reporting and recordkeeping requirements under this collection are necessary for the FAA to issue, reissue, and amend part 125 applicants' operating certificates and operation specifications. A letter of application and related documents that set forth an applicant's ability to conduct operations in compliance with the provisions of 14 CFR part 125 are submitted to the appropriate Flight Standards District Office (FSDO). Inspectors in FAA FSDOs review the submitted information to determine certificate eligibility. If the letter of application, related documents, and inspection show that the applicant satisfactorily meets acceptable safety standards, an operating certificate and operations specifications will be issued. If the information were not collected, the FAA could not discharge its responsibility to promote the safety of large airplane operators during such operations.

Respondents: 54 part 125 operators (38 certificated operators, 15 operators issued a Letter of Deviation Authority (LODA), and one new applicant per year).

Frequency: On occasion.

Estimated Average Burden per Response: 13 minutes.

Estimated Total Annual Burden: 36,015 hours total; 667 hours per respondent.

Issued in Washington, DC.
Emanuel Cruz,
Senior Technical Advisor, Flight Standards Service, General Aviation and Commercial Division.

[FR Doc. 2023-12902 Filed 6-15-23; 8:45 am]

BILLING CODE 4910-13-P